DEPARTMENT OF THE TREASURY

Office of Thrift Supervision

12 CFR Part 552

[No. 2001-52]

RIN 1550-AB46

Conversion From Stock Form Depository Institution to Federal Stock Association

AGENCY: Office of Thrift Supervision, Treasury.

ACTION: Direct final rule: Confirmation of effective date.

SUMMARY: This document confirms the effective date of the direct final rule amending the Office of Thrift Supervision's (OTS) regulation on conversions from stock form depository institutions to federal stock savings associations. The final rule clarifies that the resulting federal stock savings association in such transactions succeeds to all the rights, property, and obligations of the converting institution. OTS did not receive any comments in response to either the direct final rule or the related notice of proposed rulemaking.

EFFECTIVE DATES: The direct final rule published on May 8, 2001 (66 FR 23153-155), is effective July 9, 2001.

FOR FURTHER INFORMATION CONTACT: Aaron B. Kahn, (202) 906-6263, Special Counsel, or Kevin A. Corcoran, (202) 906-6962, Assistant Chief Counsel, Business Transactions Division, Chief Counsel's Office, Office of Thrift Supervision, 1700 G Street, NW., Washington DC 20552.

Authority: 12 U.S.C. 1462, 1462a, 1463, 1464, 1467a.

Dated: July 11, 2001.
By the Office of Thrift Supervision.
Ellen Seidman,
Director.

[FR Doc. 01-17872 Filed 7-17-01; 8:45 am]

BILLING CODE 6720-01-P